SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before December 27, 2010.

ADDRESSES: Send all comments regarding whether this information collection is necessary for the proper performance of the function of the agency, whether the burden estimates are accurate, and if there are ways to minimize the estimated burden and enhance the quality of the collection, to George Solomon, Senior Policy Advisor, Office of Entrepreneurial Education, Small Business Administration, 409 3rd Street, 6th Floor, Washington, DC 20416.

FOR FURTHER INFORMATION CONTACT: George Solomon, Office of Senior Policy, 202-205-7426 george.solomon@sba.gov Curtis B. Rich, Management Analyst, 202-205-7030 curtis.rich@sba.gov.

SUPPLEMENTARY INFORMATION: The Office of Entrepreneurial Development (ED) needs to collect information on the impact of training programs delivered by both its resource partners—SCORE, SBDC and WBCs and focused initiatives like E200 using a uniform methodology in order to provide generally accepted outcome measures and to report to Congress and the President on these programs. Respondents are small business owners and potential small business owners from throughout the U.S. and the territories.

Title: “Impact of Training Programs.”

Description of Respondents: Small business owners and potential small business owners from throughout the U.S. and the territories.

Form Number: N/A.

Annual Responses: 600,000.

Annual Burden: 100,000.

Jacqueline White,
Chief, Administrative Information Branch.

[FR Doc. 2010-26790 Filed 10-22-10; 8:45 am]

BILLING CODE P